DEPARTMENT OF LABOR

Employment and Training Administration

[TA-W-61,418]

Temco Metal Company Including On-Site Leased Workers of Express Personnel, Clackamas, OR; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on June 12, 2007, applicable to workers of Temco Metal Company, Clackamas, Oregon. The notice was published in the Federal Register on June 28, 2007 (72 FR 35516).

At the request of the State agency, the Department reviewed the certification for workers of the subject firm. The workers were engaged in the production of fuel tank components and accessories for class 8 trucks.

New information provided by the State agency representative shows that leased workers of Express Personnel were employed on-site at the Clackamas, Oregon location of Temco Metal Company. The Department has determined that the Express Personnel workers were sufficiently under the control of Temco Metal Company to be considered leased workers.

Based on these findings, the Department is amending this certification to include temporary workers of Express Personnel working on-site at the Clackamas, Oregon location of the subject firm.

The intent of the Department's certification is to include all workers at Temco Metal Company, Clackamas, Oregon who were adversely affected as an upstream supplier for a trade certified primary firm.

The amended notice applicable to TA-W-61,418 is hereby issued as follows:

All workers of Temco Metal Company, including on-site leased workers of Express Personnel, Clackamas, Oregon, who became totally or partially separated from employment on or after April 27, 2006, through June 12, 2009, are eligible to apply for adjustment assistance under section 223 of the Trade Act of 1974, and are also eligible to apply for alternative trade adjustment assistance under section 246 of the Trade Act of 1974.

Signed at Washington, DC this 14th day of August 2007.
Richard Church,
Certifying Officer, Division, of Trade Adjustment Assistance.

[FR Doc. E7-16885 Filed 8-24-07; 8:45 am]

BILLING CODE 4510-FN-P